DEPARTMENT OF ENERGY

Federal Energy Regulatory Commission

Combined Notice of Filings #1

Take notice that the Commission received the following electric rate filings:

Docket Numbers: ER24-2448-001.

Applicants: Wisconsin Electric Power Company.

Description: Tariff Amendment: Amendment to Formula Rate Update Filing for 2023 Rate Year to be effective 9/1/2024.

Filed Date: 9/24/24.

Accession Number: 20240924-5132.

Comment Date: 5 p.m. ET 10/15/24.

Docket Numbers: ER24-3096-000.

Applicants: Ridge Crest Wind Partners, LLC.

Description: Tariff Amendment: Notice of Cancellation to be effective 9/24/2024.

Filed Date: 9/23/24.

Accession Number: 20240923-5160.

Comment Date: 5 p.m. ET 10/15/24.

Docket Numbers: ER24-3097-000.

Applicants: Reworld Delaware Valley, L.P.

Description: 205(d) Rate Filing: Notice of Succession to be effective 9/25/2024.

Filed Date: 9/24/24.

Accession Number: 20240924-5038.

Comment Date: 5 p.m. ET 10/15/24.

Docket Numbers: ER24-3098-000.

Applicants: Reworld Essex Company.

Description: 205(d) Rate Filing: Notice of Succession to be effective 9/25/2024.

Filed Date: 9/24/24.

Accession Number: 20240924-5039.

Comment Date: 5 p.m. ET 10/15/24.

Docket Numbers: ER24-3099-000.

Applicants: Reworld Fairfax, LLC.

Description: 205(d) Rate Filing: Notice of Succession to be effective 9/25/2024.

Filed Date: 9/24/24.

Accession Number: 20240924-5040.

Comment Date: 5 p.m. ET 10/15/24.

Docket Numbers: ER24-3100-000.

Applicants: Reworld Plymouth, LLC.

Description: 205(d) Rate Filing: Notice of Succession to be effective 9/25/2024.

Filed Date: 9/24/24.

Accession Number: 20240924-5042.

Comment Date: 5 p.m. ET 10/15/24.

Docket Numbers: ER24-3101-000.

Applicants: California Independent System Operator Corporation.

Description: 205(d) Rate Filing: 2024-09-24 Certificate of Concurrence—TEA with CAISO, WAPA & PG&E to be effective 1/1/2025.

Filed Date: 9/24/24.

Accession Number: 20240924-5120.

Comment Date: 5 p.m. ET 10/15/24.

Docket Numbers: ER24-3102-000.

Applicants: Milford Gen Lead, LLC.

Description: Baseline eTariff Filing: Filing of LGIA, TSA, and Development Agreement & Request for Waiver to be effective 11/1/2024.

Filed Date: 9/24/24.

Accession Number: 20240924-5135.

Comment Date: 5 p.m. ET 10/15/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: September 24, 2024.
Debbie-Anne A. Reese,
Acting Secretary.

[FR Doc. 2024-22419 Filed 9-30-24; 8:45 am]

BILLING CODE 6717-01-P